NATIONAL SCIENCE FOUNDATION

Notice of Permit Applications Received Inder the Antarctic Conservation Act of 1978

AGENCY: National Science Foundation.

ACTION: Notice of permit applications received under the Antarctic Conservation Act.

SUMMARY: The National Science Foundation (NSF) is required to publish a notice of permit applications received to conduct activities regulated under the Antarctic Conservation Act of 1978. NSF has published regulations under the Antarctic Conservation Act at title 45 part 671 of the Code of Federal Regulations. This is the required notice of permit applications received.

DATES: Interested parties are invited to submit written data, comments, or views with respect to this permit application by October 23, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details:

Permit Application: 2016-008

1. Applicant David Rootes, Environmental Manager. Antarctic Logistics and Expeditions LLC. 3478 South Main Street, Salt Lake City UT 84115.

Activity for Which Permit Is Requested

Waste Permit; ALE plans to operate a remote camp at Union Glacier, Antarctica, and provide logistical support services for scientific and other expeditions, film crews, and tourists. These activities include aircraft support, cache positioning, camp and field support, resupply, search and rescue, medevac, medical support and logistic support for some National Operators. The camp can accommodate up to 100 people and is adjacent to a blue-ice runway. The blue-ice runway is a natural feature that requires limited amount of preparation and upkeep for aircraft use. There are standard programs offered on a regular basis including: climbing trips to Vinson Massif, the Ellsworth Mountains and the Transantarctic Mountains; ski trips to the Ellsworth Mountains and the Geographic South Pole; ice marathons and sky diving at Union Glacier; and flights to the Geographic South Pole and the emperor penguin colony at the Dawson Lambton Glacier. Several aircraft will be operated by ALE throughout the Antarctic and may consist of the following: Ilyushin ILTD-76, Boeing 757-200ER, Douglas DC3-TP67, and De Havilland DHC-6 Twin Otter. ALE plans to allow clients to fly Unmanned Aerial Vehicles (UAV) provided their plan meets certain requirements, including ALE's standard operating procedures, IATTO UAV policy (2015), and civil aviation authority regulations (ICAO, FAA, CAA).

Location

Centered around Union Glacier, in the general area of the Ellsworth Mountains including Vinson Massif; the sector to the South Pole; the Filchner-Ronnie Ice Shelf including Berkner Island; the coast of Coats Land; and the Ross Ice Shelf and the general route from Ross Island to the South Pole.

Dates

October 16, 2015 through February 28, 2020.

Nadene G. Kennedy,
Polar Coordination Specialist, Division of Polar Programs.

[FR Doc. 2015-24175 Filed 9-22-15; 8:45 am]

BILLING CODE 7555-01-P